DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Targeted Capacity Expansion Program for Substance Abuse Treatment and HIV/AIDS Services (TCE-HIV)—NEW

This data collection is to study the risk and protective factors related to substance use and HIV. The primary purpose of the Project is to conceptualize, plan, and implement a multi-site valuation to investigate the process, outcome, and effect of substance abuse treatment and HIV/AIDS services provided by 48 SAMHSA grantees. The grantees' focus is on enhancing and expanding substance abuse treatment and/or outreach and pretreatment services in conjunction with HIV/AIDS services in African American, Hispanic/Latino, and other racial and ethnic minority communities. A multi-stage approach has been used to develop the appropriate theoretical framework, conceptual model, evaluation design and protocols, and data collection instrumentation. Process and outcome measures have been developed to fully capture community and contextual conditions, the scope of the TCE-HIV Grantee program implementation and activities, and client outcomes. A mixed-method approach (survey, semi-structured interviews, focus groups) will be used, for example, to examine collaborative community linkages established between grantees and other service providers (e.g., primary health care, medical services for persons living with HIV/AIDS, substance abuse recovery support services), determine which program models and what type and amount of client exposure to services contribute to significant changes in substance abuse and HIV/AIDS risk behaviors of the targeted populations, and determine the impact of the TCE-HIV services on providers, clients, and communities.

The process data collection for the project will be conducted bi-annually (i.e., every other year during the 4-year period) and the client outcome data collection is ongoing throughout the project and will be collected at baseline/intake, discharge and 6 months post baseline/intake for all treatment clients. The respondents are clinic-based social workers and counselors (e.g., social workers, licensed alcohol and drug counselors, licensed clinical professional counselors, licensed clinical social workers), clinic-based administrators and clinic-based clients.

TCE-HIV Multi-site Data Collection Burden for Clients, Grantee Staff, and Collaborators
Instrument/Activity | Number of respondents | Responses per respondent | Total responses | Hours per response | Total burden hours
Baseline data collection (clients) | 4,800 | 1 | 4,800 | .42 | 2,016
Discharge data (clients) |  | 1 | 4,800 | .42 | 2,016
6 months post baseline data collection (clients) |  | 1 | 3,840 | .42 | 1,613
Treatment focus group Year 2 (client) |  | 1 | 360 | 1.0 | 360
Treatment focus group year 4 (client) |  | 1 | 360 | 1.0 | 360
Client Subtotal | 4,800 |  | 14,160 |  | 6,365
Annualized Client Total | 1,600 | — | 4,720 | — | 2,122
Project Director/Program Manager (Semi-Structured Interviews) | 96 | 2 | 192 | .75 | 144
Annualized PD/PM Total | 32 | — | 64 | — | 48
Grantee Direct Services Staff (Semi-Structured Interviews) | 432 | 2 | 864 | 1.0 | 864
Annualized Service Staff Total | 144 | — | 288 | — | 288
Treatment Dosage Form (Completed by program staff) | 4,800 | 1 | 4,800 | .25 | 1,200
Annualized Dosage Total | 1,600 | — | 1,600 | — | 400
Community Collaborators (Semi-Structured Interviews) | 240 | 2 | 480 | 1.0 | 480
Annualized Collaborators Total | 80 | — | 160 | — | 160
TOTAL | 10,368 |  | 20,496 |  | 9,053
Annualized Totals (3-year clearance for project) | 3,456 | — | 6,832 | — | 3,018

Annualized Summary Table
Respondents | Number of respondents | Responses/ respondent | Total responses | Hours per response | Total burden hours
CLIENT DATA COLLECTION INSTRUMENTS
Clients-Baseline, discharge, 6-Months data collection | 4,800 | 3 | ‸13,440 | .42 | 5,645
Annualized Client Survey Total | 1,600 |  | 4,480 |  | 1,882
Client Focus Groups Year 2 and Year 4 | *720 | 1 | 720 | 1.0 | 720
Annualized Client FG Total | 240 |  | 240 |  | 240
ADMINISTRATOR INTERVIEW INSTRUMENTS
Project Director/Program Manager (Semi-Structured Interviews) | 96 | 2 | 192 | .75 | 144
Annualized PD/PM Total | 32 |  | 64 |  | 48
DIRECT SERVICE STAFF INSTRUMENTS
Grantee Direct Services Staff (Semi-Structured Interviews) | 432 | 2 | 864 | 1.0 | 864
Annualized Service Staff Total | 144 |  | 288 |  | 288
Treatment Dosage Form (Completed by program staff) | 4,800 | 1 | 4,800 | .25 | 1,200
Annualized Dosage Total | 1,600 |  | 1,600 |  | 400
COLLABORATORS/PARTNERS INTERVIEW INSTRUMENTS
Community Collaborators (Semi-Structured Interviews) | 240 | 2 | 480 | 1.0 | 480
Annualized Collaborators Total | 80 |  | 160 |  |
Annualized Totals (3-year clearance for project) | 3,456 |  | 6,832 |  | 3,018
‸ This number is derived from 4800+4800+3840 = 13,440 for 100% response rate at two data collection time points and 80% at the third data collection time point.
* These respondents are a subset of the 4,800 clients so they are not included in the total number of respondents.

Written comments and recommendations concerning the proposed information collection should be sent by July 23, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: June 16, 2010.
Elaine Parry,
Director, Office of Program Services.

[FR Doc. 2010-15208 Filed 6-22-10; 8:45 am]

BILLING CODE 4162-20-P